SECURITIES AND EXCHANGE COMMISSION

[Release No. 34-64102]

Order Cancelling Registrations of Certain Transfer Agents

March 21, 2011.

On November 4, 2010, notice was published in the Federal Register that the Securities and Exchange Commission (“Commission”) intended to issue an order, pursuant to Section 17A(c)(4)(B) of the Securities Act of 1934 (“Act”),¹ cancelling the registrations of certain transfer agents.² For the reasons discussed below, the Commission is cancelling the registration of the transfer agents identified in the attached Appendix.

¹ 15 U.S.C. 78q-1(c)(4)(B).

² Securities Exchange Act Release No. 63211 (Oct. 29, 2010), 75 FR 68012.

For Further Information Contact: Jerry W. Carpenter, Assistant Director, or David Karasik, Special Counsel, at (202) 551-5710, U.S. Securities and Exchange Commission, Division of Trading and Markets, Room 7321 SP1, 100 F Street, NE., Washington, DC 20549-7010, or by e-mail at tradingandmarkets@sec.gov with the phrase “Notice of Intention To Cancel Transfer Agent Registration” in the subject line.

Background:

Section 17A(c)(4)(B) of the Act provides that if the Commission finds that any transfer agent registered with the Commission is no longer in existence or has ceased to do business as a transfer agent, the Commission shall by order cancel that transfer agent's registration. On November 4, 2010, the Commission published notice of its intention to cancel the registration of certain transfer agents whom it believed were no longer in existence or had ceased doing business as transfer agents.³

³ Id.

In the notice, the Commission identified 45 such transfer agents and stated that at any time after December 15, 2010, which was 41 days after the notice was published in the Federal Register, the Commission intended to issue an order canceling the registrations of any or all of the identified transfer agents. Three transfer agents contacted the Commission to object to the cancellation of their registrations stating that they have not ceased doing business as a transfer agent. The Commission has decided not to cancel the registration of these three transfer agents at this time. Two other transfer agents contacted the Commission regarding the cancellation of their registrations but did not object to such cancellation. None of the remaining 40 identified transfer agents contacted the Commission to object to the cancellation of their registrations.

Accordingly, the Commission is cancelling the registrations of the 42 transfer agents identified in the Appendix attached to this Order.

Order

On the basis of the foregoing, the Commission finds that each of the transfer agents whose name appears in the attached Appendix either is no longer in existence or has ceased doing business as a transfer agent.

It is therefore ordered pursuant to Section 17A(c)(4)(B) of the Act that the registration as a transfer agent of each of the transfer agents whose name appears in the attached Appendix be and hereby is cancelled.

For the Commission by the Division of Trading and Markets pursuant to delegated authority.⁴
⁴ 17 CFR 200.30-3(a)(22).
Cathy H. Ahn,
Deputy Secretary.

Appendix

Transfer agent name | File No.
ADVEST TRANSFER SERVICES, INC. | 8405855
AGN ASSOCIATES & STOCK TRANSFER SERVICES, LLC | 8406255
AMAZON NATURAL TREASURES.COM, INC | 8405839
Beverly National Corporation | 8505474
CAPITAL FUND SERVICES, INC. | 8405909
Cargill Investor Services, Inc. | 8405683
CENTURY REALTY TRUST Co | 8400082
CNB Bancorp, Inc. | 8505383
Compushare Transfer Corporation | 8406194
Endless Investments, LLC | 8406178
ELECTROCHEMICAL INDUSTRIES FRUTAROM INC. | 8400814
First Choice National Stock Transfer Agency Inc | 8406154
FORTUNE FUND ADMINISTRATION, INC. | 8405672
Francine Goodman (dba Maximvs Transfer Services) | 8405926
GTI Corporate Transfer Agents LLC | 8406151
Guarantee Services CORP | 8406145
HOLA CORP | 8406047
HOWARD JOHNSON & COMPANY | 8405555
InCap Fund Administration, Inc. | 8406124
International Acquisitions & Holdings, Inc. | 8406164
INCORP STOCK TRANSFER INC | 8406042
Lapeer County Bank & Trust Co. | 8505250
Legends Financial Holding, Inc. | 8505534
LIBERTY TRANSFER COMPANY | 8405474
MANCHESTER BENEFITS GROUP, LTD | 8405891
MANCHESTER EXCHANGE TRUST LIMITED | 8405810
McGLADREY & PULLEN, LLP | 8405806
Mercantile Bancorp, Inc. | 8406226
NICHOLAS VITO PELLETIERE SECURITY WEST STOCK TRANSFER | 8406090
NuWave eSolutions Private Limited | 8406170
PACIFIC STOCK TRANSFERS INC | 8406088
PUBLIC STOCK TRANSFER COMPANY dba/PUBLIC EASE | 8405866
Royalty Stock Transfer | 8406189
Select American Transfer Co. | 8406152
Syntel, Inc. | 8406142
TECHNOLOGY FUNDING CAPITAL CORPORATION | 8405738
The Commercial Bank | 8405867
THE NORTHERN SAVINGS & LOAN COMPANY | 8405867
THE NYHART COMPANY, INC. | 8405722
TRUSTMARK STOCK & TRANSFER INC | 8406073
UAC INC. | 8400293
Wulf International, Ltd | 8406180

[FR Doc. 2011-7100 Filed 3-24-11; 8:45 am]

BILLING CODE 8011-01-P